DEPARTMENT OF HOMELAND SECURITY

Coast Guard

[Docket No. USCG-2026-0070]

Application for Recertification of Prince William Sound Regional Citizens' Advisory Council

AGENCY: Coast Guard, DHS.

ACTION: Notice of availability and request for comments.

SUMMARY: The Coast Guard announces the availability of, and seeks comments on, the recertification of the Prince William Sound Regional Citizen's Advisory Council (PWSRCAC) for a period of March 1, 2026 through February 28, 2027. Under the Oil Pollution Act of 1990 (OPA 90), the Coast Guard may recertify the PWSRCAC on an annual basis. This group monitors the activities of terminal facilities and crude oil tankers under the Prince William Sound program established by the OPA 90 statute. The current certification for the PWSRCAC will expire February 28, 2026.

DATES: Comments must be must be received by the Coast Guard on or before February 15, 2026.

ADDRESSES: You may submit comments identified by docket number USCG-2026-0070 at www.regulations.gov. See the “Public Participation and Request for Comments” portion of the SUPPLEMENTARY INFORMATION section for further instructions on submitting comments.

FOR FURTHER INFORMATION CONTACT: For information about this document call or email LT Case Kuikhoven, United States Coast Guard Arctic District; telephone 907-463-2809, email case.a.kuikhoven@uscg.mil.

SUPPLEMENTARY INFORMATION:

I. Public Participation and Comments

We encourage you to submit comments (or related material) on the recertification of the PWSRCAC. We will consider all comments and material received during the comment period. If you submit a comment, please include the docket number for this notice, indicate the specific section of this document to which each comment applies, and provide a reason for each suggestion or recommendation.

Submitting comments. We encourage you to submit comments at www.regulations.gov. To do so, go to www.regulations.gov, type USCG-2026-0070 in the search box and click “Search.” Next, look for this document in the Search Results column, and click on it. Then click on the Comment option. If you cannot submit your material using www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the www.regulations.gov Frequently Asked Questions web page.

Personal information. We accept anonymous comments. Comments we post to www.regulations.gov will include any personal information you have provided. For more about privacy and submissions in response to this document, see DHS's eRulemaking System of Records notice (85 FR 14226, March 11, 2020).

II. Background and Purpose

On December 31, 1992, the Coast Guard published Guidelines for Recertification of Alternative Voluntary Groups In Lieu of a Council (57 FR 62600) to assist groups seeking recertification under the Oil Terminal and Oil Tanker Environmental Oversight and Monitoring Act of 1990 (33 U.S.C. 2732) (the OPA 90 Act). On July 7, 1993, the Coast Guard published a notice (58 FR 36504) identifying the factors that the Coast Guard would consider in making its determination as to whether advisory groups should be certified in accordance with the OPA 90 Act, and the procedures which the Coast Guard would follow in meeting its recertification responsibilities under the OPA 90 Act. On September 16, 2002, the Coast Guard published revised recertification procedure for alternative voluntary advisory groups established in lieu of councils (67 FR 58440). According to the revised procedures, an applicant alternative group requesting recertification is required to provide the Coast Guard with a comprehensive application once every 3 years (triennially). For each of the two years between the triennial application procedures, the applicant utilizes a streamlined process and submits a recertification application describing any substantive changes to the information provided at the previous triennial recertification. Public comment is only solicited during the triennial comprehensive review. 2026 is the year in this triennial cycle that PWSRCAC must provide comprehensive information.

The Coast Guard is accepting comments concerning the recertification of PWSRCAC. At the conclusion of the comment period on February 15, 2026, the Coast Guard will review all public comments received and will take one of the following actions:

(a) Recertify the PWSRCAC under 33 U.S.C. 2732(o);

(b) Issue a conditional recertification for a period of 90 days, with a statement of any discrepancies, which must be corrected to qualify for recertification for the remainder of the year; or

(c) Deny recertification of PWSRCAC if the Coast Guard finds that the group is not broadly representative of the interests and communities in the area or is not adequately fostering the goals and purposes of 33 U.S.C. 2732.

The Coast Guard will notify PWSRCAC by letter of the action taken on its application. A notice will be published in the Federal Register to advise the public of the Coast Guard's determination.

R.R. Little,
Rear Admiral, U.S. Coast Guard, Commander, United States Coast Guard Arctic District.

[FR Doc. 2026-02072 Filed 1-30-26; 8:45 am]

BILLING CODE 9110-04-P